DEPARTMENT OF TRANSPORTATION

Federal Aviation Administration

14 CFR Part 71

[Docket No. FAA-2005-20551; Airspace Docket No. 06-AAL-18]

RIN 2120-AA66

Re-Designation of VOR Federal Airway V-431; Alaska

AGENCY: Federal Aviation Administration (FAA), DOT.

ACTION: Final rule.

SUMMARY: This action amends VOR Federal Airway V-431, Alaska. Specifically, the FAA is re-designating V-431 as V-593 because the V-431 designation is a duplicate number in the National Airspace System (NAS) and is causing problems with the Flight Data processors during route validation at the Anchorage Air Route Traffic Control Center.

DATES: Effective Date: 0901 UTC, September 28, 2006.

FOR FURTHER INFORMATION CONTACT: Ken McElroy, Airspace and Rules, Office of System Operations and Safety, Federal Aviation Administration, 800 Independence Avenue, SW., Washington, DC 20591; telephone: (202) 267-8783.

SUPPLEMENTARY INFORMATION:

The Rule

This action amends Title 14 Code of Federal Regulations (14 CFR) part 71 by re-designating V-431 as V-593 because the V-431 designation is duplicated in the NAS and causes problems with the Flight Data processors during route validation at Anchorage Air Route Traffic Control Center. The route number change will coincide with the effective date of this rulemaking action. Since this action merely involves editorial change in the route number of the legal description of a Federal Airway, and does not involve a change in the dimensions or operating requirements of that airway, notice and public procedure under 5 U.S.C. 553(b) are unnecessary.

Alaskan VOR Federal Airways are published in paragraph 6010(b) of FAA Order 7400.9O dated September 1, 2006, and effective September 16, 2006, which is incorporated by reference in 14 CFR 71.1. The Federal Airways listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9O, Airspace Designations and Reporting Points, dated September 1, 2006, and effective September 16, 2006, is amended as follows:

Paragraph 6010(b)) Alaskan VOR Federal Airways.

* * * * *

V-431 [Remove]

* * * * *

V-593 [New]

From Sisters Island, AK, INT Sisters Island 204° and Biorka Island 355° radials; Biorka Island, AK.

* * * * *

Issued in Washington, DC, on June 29, 2006.
Edith V. Parish,
Manager, Airspace and Rules.

[FR Doc. E6-10676 Filed 7-6-06; 8:45 am]

BILLING CODE 4910-13-P